DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of April 2003.

In order for an affirmative determination to be made and a certification of eligibility to apply for worker adjustment assistance to be issued, each of the group eligibility requirements of section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

TA-W-42,319; Spicer Driveshaft Manufacturing, Inc., a subsidiary of Dana Corp., Atkins, VA

In the following case, the investigation revealed that the criteria for eligibility have not been met for the reasons specified.

The investigation revealed that criterion (a)(2)(A) (I.B) (No sales or production decline and (a)(2)(B) (II.B) (No shift in production to a foreign country) have not been met.

TA-W-50,789; The Premcor Refining Group, Inc., Port Arthur, TX

The investigation revealed that criteria (b)(3) has not been met. The workers' firm (or subdivision) is not a supplier or downstream producer to a firm (or subdivision) for trade-affected companies.

TA-W-51,394; B-W Specialty Manufacturing, Seattle, WA

TA-W-51,020; Shalmet Corp., Orwigsburg, PA

TA-W-50,410; Precision Diversified Industries, LLC, Plymouth, MN

The investigation revealed that criterion (a)(2)(A) (I.C.) (Increased imports) and (a) (2)(B) (II.B) (No shift in production to a foreign country) have not been met.

TA-W-50,134; Zierick Manufacturing Corp., Yatesboro, PA

TA-W-50,347; Fishing Vessel (F/V) Libby No. 8, Ketchikan, AK

TA-W-51,211; Commscope, Inc., Claremont, NC

TA-W-50,704; Tarcon, Inc., Pulaski, WI

TA-W-50,901; Holeinthewater Shrimp Co., Fishing Vessel (F/V) Miss Chris, Yankeetown, FL

TA-W-50,283; Advanced Micro Devices (AMD), Lone Star Fab Div., Austin, TX

TA-W-51,059; Fishing Vessel (F/V) Kathy Ann, Dillingham, AK

TA-W-50,179; SMT, Inc., Hanover, MI

TA-W-50,600; State of Alaska Commercial Fisheries Entry Commission Permit #S1SB66420G, Sitka, AK

TA-W-51,240; P.Q. Controls, Dover-Foxcroft, ME

TA-W-51,344; Fishing Vessel (F/V) Randy, Egegik, AK

TA-W-51,120 & A,B; Sun Apparel of Texas, Armour Facility, El Paso, TX, Sun Warehouse Faciltiy, El Paso, TX and Goodyear Distribution, El Paso, TX

TA-W-51,036; Fishing Vessel (F/V) White Eagle, Pilot Point, AK

TA-W-51,058; Fishing Vessel (F/V), Kasandra Faye, Aleknagik, AK

TA-W-51,072; State of Alaska Commercial Fisheries Entry Commission Permit #SO4T60868F, Dillingham, AK

TA-W-51,079; Atlantic Precision Products, Inc., a subsidiary of Allied Devices Corp., Sanford, ME

TA-W-50,930; Land O'Lakes, Inc., Dairy Foods Upper Midwest Industrial Div., Perham, MN

TA-W-50,950; Birds Eye Foods, Inc., Green Bay Plant, Green Bay, WI

TA-W-50,977; Wabash Technologies, Inc., Automotive Business Unit, Huntington, IN

TA-W-50,999; Fishing Vessel (F/V) 7 Z's, Naknek, AK

TA-W-51,017; Fishing Vessel (F/V) Marilyn Marie, New Stuy, AK

The workers' firm does not produce an article as required for certification under Section 222 of the Trade Act of 1974.

TA-W-51,172; Tabuchi Electric Co. of Cordova, Tennessee, Cordova, TN

TA-W-51,282; Gateway Country Stores LLC, Ashville, NC

TA-W-51,381; Hasler, Inc., Meter Repair Department, Shelton, CT

TA-W-50,827; Advanced Micro Devices (AMD), Ultra Pure Water Group, Austin, TX

TA-W-51,266; GE Plastics, a subsidiary of General Electric, Pittsfield, MA

TA-W-51,251; Western Geco, LLC, Houston, TX

TA-W-51,270; American United Life Insurance, Reinsurance Management Services, LLC, Avon, CT

TA-W-51,340; Sprint United Management Co., Rosemont Center, Rosemont, IL

TA-W-51,209; Wellchoice, Inc., New York, NY

TA-W-51,073; 3M Health Information Systems, Wallingford, CT

The investigation revealed that criterion (a)(2)(A) (I.A) (no employment declines) have not been met.

TA-W-51,033; R.D. & J, Pilot Point, AK

TA-W-51,055; State of Alaska Commercial Fisheries Entry Commission Permit #SO3T59688W, Manokotak, AK

TA-W-51,345; State of Alaska Commercial Fisheries Entry Commission Permit #SO3T56513U, Manokotak, AK

TA-W-50,755; Fishing Vessel Centurion, Manokotak, AK

TA-W-51,236; KC Fisheries, Inc., Kokiak, AK

TA-W-51,371; Fishing Vessel (F/V) Christian ‘S’, Everett, WA

TA-W-51,390; State of Alaska Commercial Fisheries Entry Commission Permit #SO4T58641M, Naknek, AK

TA-W-51,424; Fishing Vessel (F/V) Sunset, Petersburg, AK

TA-W-51,163; State of Alaska Commercial Fisheries Entry Commission Permit #SO3T60844R, Aleknagik, AK

The investigation revealed that criterion (a)(2)(A) (I.B) (sales or production, or both did not decline) and (a)(2)(A) (II.B) (no shift in production to a foreign country) have not been met.

TA-W-50,838; Fishing Vessel (F/V) Windy Sea, Kodiak, AK

TA-W-51,234; HP Pelzer, Thompson, GA

The investigation revealed that criterion (a)(2)(A) (I.C.) (Increased imports) and (a) (2)(B) (No shift in production to a foreign country) have not been met.

TA-W-50,945; Chem-Fab Corp., Hot Springs, AR

Affirmative Determinations for Worker Adjustment Assistance

The following certifications have been issued; the date following the company name and location of each determination references the impact date for all workers of such determination.

None

The following certifications have been issued. The requirements of (a)(2)(A) (increased imports) of Section 222 have been met.

TA-W-50,649; Ultra Tool Co., a Div. of Ultra Tool Group, LP, Baxter, MN: January 18, 2002

TA-W-51,295; Evening Vision Dresses, Ltd, New York, NY: March 20, 2002

TA-W-51,370; Todd Sargent, Marshfield MA: March 28, 2002

TA-W-51,367 & A,B; American Identity, Formerly Doing Business as Dunbrooke Industries, Inc., Marcus, IA, Hawarden, IA and Orange City, IA: May 4, 2003

TA-W-51,104; Johnstown Leather Corp., Johnstown, NY: February 26, 2002

TA-W-51,067; TRW Automotive US, LLC, Greenville Facility, Greenville, NC: March 4, 2002

TA-W-51,227; Corning Cable Systems, Hardware and Equipment Operations, Hickory, NC: March 18, 2002

TA-W-50,834; TSI Graphics, Inc., Effingham, IL: February 5, 2002

TA-W-50,979; C-Cor.net Corp., State College, PA: March 7, 2003

TA-W-51,026; American Tool Companies, Inc., Cumberland, WI February 25, 2002

TA-W-50,801; Johnston Industries Alabama, Inc., Opp and Micolas Mills, Opp, AL: February 4, 2002

TA-W-50,702; Motorola, Inc., RF-1, Phoenix, AZ: January 23, 2002

TA-W-50,686; First Source Furniture Group, Anderson Hickey Div., Halls, TN: December 30, 2001

TA-W-51,262; Spang and Company, Magnetics Div., Canton, NC: March 20, 2002

TA-W-50.194; Allen-Edmonds Shoe Corp., Maine Shoe, Inc., Lewiston, ME: November 18, 2001

TA-W-51,205; Phoenix Gold International, Inc., Portland, OR: March 11, 2002

TA-W-51,138; Drexel Heritage Furniture Industry, Inc., Plant 60, Morganton, NC: March 7, 2002

TA-W-51,013; Data-Ray Corp., Westminster, CO: February 26, 2002

TA-W-50,917; Trout Creek Lumber, Trout Creek, MT: July 22, 2002

TA-W-50,920; Thomson, Inc., Thomson Marion Div., Marion, IN: February 18, 2002

TA-W-50,553; Goodyear Tire and Rubber Co., Union City Plant, Union City, TN: January 9, 2002

TA-W-50,889; Mega Tech of Oregon, Div. of JJM Ltd, Corvallis, OR: February 7, 2002

The following certifications have been issued. The requirement of upstream supplier to trade certified primary firms has been met.

TA-W-50,309; Parkdale Mills, Inc., Plant 14, Belmont, NC: December 10, 2001

TA-W-51,228; M.E.L., Inc., Winchester, MA: February 26, 2002

TA-W-50,991; Milliken, Kingsley Plant, Thomson, GA: February 18, 2002

The following certifications have been issued. The requirements of (a)(2)(B) (shift in production) of Section 222 have been met.

TA-W-50,466; Makita Corp. of America, Including workers of Chase Staffing and Randstad Staffing, Buford, GA: September 10, 2001

TA-W-51,331; Allen Everitt Knitting Co., Milwaukee, WI: March 18, 2002

TA-W-51,286; Celestica, Inc., Oklahoma City, OK: March 24, 2002

TA-W-50,392; State of Alaska Commercial Fisheries Entry Commission Permit #SO4T57510S, Naknek, AK: March 28, 2002

TA-W-51,391; State of Alaska Commercial Fisheries Entry Commission Permit #SO4T64743O, King Salmon, AK: March 28, 2002

TA-W-51,389; State of Alaska Commercial Fisheries Entry Commission Permit #SO4T59912, Naknek, AK: April 2, 2002

TA-W-51,114; Celestica Corp. Including Leased workers of Adecco, Fort Collins, CO: March 7, 2002

TA-W-51,201; First International Computer of Texas Including Leased workers of Adecco International, Corestaff Services and Express Personnel Services, Austin, TX: March 12, 2002

TA-W-50,963; C.F. Gomma USA, Inc., Columbia City, IN: February 20, 2002

TA-W-50,969; Teradyne, Inc., a Semiconductor Test Div., Global Customer Service, Formerly Known as Genrad, Inc., Westford, MA: February 11, 2002

TA-W-50,424; Wolverine World Wide, Inc., Wolverine Leathers Div., Rockford, MI: December 11, 2001

TA-W-51,381; Vishay Micro-Measurements, Wendell, NC: December 13, 2001

TA-W-50,353; Edinboro Molding, Inc., Edinboro, PA: December 10, 2001

TA-W-51,253; Delta Woodside Industries, Inc., Catawba Plant, Maiden, NC: March 20, 2002

TA-W-51,250; Shugart Corp. (DBA) International Assembly Specialists, Tucson Operations, Tucson, AZ: July 16, 2002

TA-W-50,279; Siemens Energy and Automation, Inc., Measurement Systems Business, Spring House, PA: March 21, 2002

TA-W-51,258; Riley Licensing, Inc., d/b/a Riley Golf, Monterey, CA: March 11, 2002

TA-W-50,984; MTI Technology Corp., Anaheim, CA: January 4, 2002

TA-W-51,255; ICY Waters U.S., Inc., Oakville, WA: March 19, 2002

TA-W-51,050; JJA, Inc., Hampstead, NH: March 3, 2002

TA-W-51,116; Dura Automotive Systems, Inc., Shifter Operations, including leased workers of Westaff, Inc., Livonia, MI: February 21, 2002

TA-W-51,170; Siemens Energy and Automation, Residential Infrastructure Div., including leased workers of Randstad North America, CDI Corp., Peak Technical Services, Miami, FL: March 14, 2002

TA-W-51,097; The Triax Co., d/b/a Webb-Triax Co., Chardon, OH: February 20, 2002

TA-W-50,964; Oetiker, Inc., a subsidiary of Hans Oetiker AG, Marlette, MI: February 13, 2002

TA-W-50,667; JDS Uniphase Corp., Commercial Laser Div., Manteca, CA: January 9, 2002

Also, pursuant to Title V of the North American Free Trade Agreement Implementation Act (Pub. L. 103-182) concerning transitional adjustment assistance hereinafter called (NAFTA-TAA) and in accordance with section 250(a), subchaper D, chapter 2, Title II, of the Trade Act as amended, the Department of Labor presents summaries of determinations regarding eligibility to apply for NAFTA-TAA issued during the month of April 2003.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

None

The investigation revealed that the criteria for eligibility have not been met for the reasons specified.

The investigation revealed that the workers of the subject firm did not produce an article within the meaning of Section 250(a) of the Trade Act, as amended.

None

Affirmative Determinations NAFTA-TAA

None

I hereby certify that the aforementioned determinations were issued during the month of April 2003. Copies of these determinations are available for inspection in Room C-5311, U.S. Department of Labor, 200 Constitution Avenue, NW., Washington, DC 20210 during normal business hours or will be mailed to persons who write to the above address.

Dated: April 14, 2003.
Edward A. Tomchick,
Director, Division of Trade Adjustment Assistance.

[FR Doc. 03-10140 Filed 4-23-03; 8:45 am]

BILLING CODE 4510-30-P